FEDERAL MARITIME COMMISSION

Notice of Agreements Filed

The Commission hereby gives notice of the filing of the following agreement under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201330.

Agreement Name: CMA CGM/COSCO Shipping Vessel Sharing Agreement Brazil-Caribbean/U.S. Gulf.

Parties: CMA CGM S.A. and COSCO Shipping Lines Co., Ltd.

Filing Party: Draughn Arbona, CMA CGM (America) LLC.

Synopsis: The Agreement authorizes CMA CGM and COSCO to jointly operate a liner service in the trade between the U.S. Gulf Coast, Brazil, Panama, Jamaica, and Mexico.

Proposed Effective Date: 1/21/2020.

Location: https://www2.fmc.gov/FMC.Agreements.Web/Public/AgreementHistory/26455.

Agreement No.: 012146-003.

Agreement Name: HLAG/Maersk USWC-Mediterranean Vessel Sharing Agreement.

Parties: Hapag Lloyd AG and Maersk A/S.

Filing Party: Wayne Rohde; Cozen O'Connor.

Synopsis: The amendment changes the name of Maersk Line A/S to Maersk A/S.

Proposed Effective Date: 1/22/2020.

Location: https://www2.fmc.gov/FMC.Agreements.Web/Public/AgreementHistory/308.

Agreement No.: 012307-004.

Agreement Name: Maersk/APL Slot Exchange Agreement.

Parties: Maersk A/S; APL Co. Pte. Ltd.; and American President Lines, LLC.

Filing Party: Wayne Rohde; Cozen O'Connor.

Synopsis: The amendment changes the name of Maersk Line A/S to Maersk A/S, updates the name of the Agreement accordingly, and makes changes to the space charter volumes under the Agreement.

Proposed Effective Date: 1/23/2020.

Location: https://www2.fmc.gov/FMC.Agreements.Web/Public/AgreementHistory/176.

Agreement No.: 201322-001.

Agreement Name: Maersk/Matson Space Charter Agreement.

Parties: Maersk A/S and Matson Navigation Company, Inc.

Filing Party: Wayne Rohde; Cozen O'Connor.

Synopsis: The amendment changes the name of Maersk Line A/S to Maersk A/S.

Proposed Effective Date: 1/23/2020.

Location: https://www2.fmc.gov/FMC.Agreements.Web/Public/AgreementHistory/24440.

Dated: January 24, 2020.
Rachel Dickon,
Secretary.

[FR Doc. 2020-01665 Filed 1-29-20; 8:45 am]

BILLING CODE 6731-AA-P